DEPARTMENT OF HOUSING AND URBAN DEVELOPMENT

[Docket No. FR-5643-N-01]

Notice of Annual Factors for Determining Public Housing Agency Administrative Fees for the Section 8 Housing Choice Voucher and Moderate Rehabilitation Programs

AGENCY: Office of the Assistant Secretary for Public and Indian Housing, HUD.

ACTION: Notice.

SUMMARY: This Notice announces the monthly per unit fee amounts for use in determining the on-going administrative fee for housing agencies administering the rental voucher and moderate rehabilitation programs, including Single Room Occupancy during Calendar Year (CY) 2012.

DATES: Effective Date: January 1, 2012.

FOR FURTHER INFORMATION CONTACT: Miguel Fontanez, Director, Housing Voucher Financial Management Division, Office of Public Housing and Voucher Programs, Office of Public and Indian Housing, Department of Housing and Urban Development, Room 4222, 451 Seventh Street SW., Washington, DC 20410-8000, telephone number 202-402-2934. (This is not a toll-free number). Hearing or speech impaired individuals may call TTY number 800-877-8337.

SUPPLEMENTARY INFORMATION:

A. Purpose and Substantive Description

This Federal Register Notice provides the Department's methodology to determine the Calendar Year 2012 administrative fees rates by area, which the Office of Housing Voucher Programs (OHVP) will utilize to compensate public housing agencies (PHAs) for administering the Housing Choice Voucher (HCV) program. PIH Notice 2012-9 entitled, Implementation of the Federal Fiscal Year (FY) 2012 Funding Provision for the Housing Choice Voucher Program, issued on February 8, 2012,¹ describes the settlement process for this compensation, which will be a result of the mandate enacted in the “Consolidated and Furthering Continuing Appropriations Act, 2012” (Pub. L. 112-55, approved November 18, 2011) (FY 2012 Appropriation Act).

¹ PIH Notice 2012-9 is available online at: http://portal.hud.gov/hudportal/HUD?src=/program_offices/public_indian_housing/publications/notices.

B. Methodology History

Section 8 Administrative Fees are based on the higher of the FY 1993 Fair Market Rent (FMR) for a two-bedroom unit in a PHA's market area or the FY 1994 FMR for a two-bedroom unit, but not more than 103.5 percent of the FY 1993 FMR. This Fee Base is also subject to a $428 minimum and a $811 maximum. (The average FMR in 1993 was $555).

FMR areas (Fee Base areas) were updated in 2005 to new OMB metropolitan area definitions. Where a new metropolitan area is made up of more than one old metropolitan area, the fee base for the largest of the old areas in the new area was used.

Prior to 2005, the Quality Housing and Work Responsibility Act of 1998 (Pub. L. 105-276) (QHWRA) required renewals to be based on the per unit cost from a PHA's latest year-end settlement statement for 100 percent of expiring annual contribution contract (ACC) units. Since then, HUD has made changes to how it calculates the administrative fees for PHAs administering the Section 8 programs. These changes have been caused by budgetary mandates rather than research on what it actually costs to administer a well-run program.

When the voucher program was introduced, administrative fees were set at 6.5% of the two-bedroom FMR. Administrative Fees had three components, ongoing, preliminary, and hard-to-house fees. In FY 2003, a flat fee was implemented, which was calculated based on the amount each PHA was eligible to receive in CY 2003. This calculation used the Column A and Column B published rates to determine the fees. This change meant that PHAs would receive a set amount regardless of leasing. This methodology for calculating administrative fees was the basis for determining fee funding in 2004 through 2007.

The Consolidated Appropriations Act, 2008 (Pub. L. 110-161, approved December 26, 2007), changed the methodology again for calculating fees back to Section 8 (q) pre-QHWRA where fees are now based on the leasing reported in the Voucher Management System. This same methodology has been applied in each year since 2007 because Congress has continued to require that the same standard be used in the relevant appropriations acts.

The Fee Base numbers are updated annually using Bureau of Labor Statistics data on average local government wages at the State metropolitan and nonmetropolitan level. The Congress has changed the percentage of the fee base used to reimburse administrative costs three times since the current system was established. The following chart shows the history of admin fee rates for Column A and Column B.

Fiscal year | First 600 units (percent) | Additional units (percent)
1995 and 1996 | 8.2 | 7.79
1997 | 7.5 | 7
1998 and 1999 | 7.65 | 7
2000 through 2012 | 7.5 | 7

In 1998 HUD, with OMB's approval, began to apply the State nonmetropolitan minimum FMR to metropolitan areas for fee determination purposes. Fees for PHA-owned units will be determined in the same manner as all other units.

Fees are updated with Bureau of Labor Statistics (BLS) local government wage change factors aggregated to the metropolitan/nonmetropolitan level. The Year-end 1993 is used as the base to account for the two-year lag between data availability and the year updating was to start (FY 1995).

C. FY 2012 Methodology

For CY 2012, in accordance with the FY 2012 Appropriations Act, administrative fees will be paid on the basis of units leased as of the first day of each month; this data will be extracted from the Voucher Management System (VMS) at the close of each reporting cycle.

Two fee rates are provided for each housing authority (HA). The first rate, Column A, applies to the first 7,200 unit months leased in CY 2012. The second rate, Column B, applies to all remaining unit months leased in CY 2012. In years prior to 2010, a Column C rate was also provided, which applied to all unit months leased in units owned by the HA. For CY 2012 there are no Column C administrative fee rates. Fees for leased HA-owned units will be earned in the same manner and at the same Column A and Column B rates as for all other leasing.

The fee rates calculated for CY 2012, using the standard procedure, in many cases resulted in rates lower than those provided for CY 2011. In those cases, the affected HAs are being held harmless at the CY 2011 rates.

The fee rates for each HA are those rates covering the areas in which each HA has the greatest proportion of its participants, based on PIC data. In some cases, HAs have participants in more than one fee area. If an HA so chooses, the HA may request that the Department establish a blended fee rate schedule that will consider proportionately all areas in which participants are located. Once a blended rate schedule is calculated, it will be used to determine the HA's fee eligibility for all months of CY 2012.

PHAs that operate over a large geographic area were permitted to request a higher administrative fee rate if eligible under the circumstances as described in the CY 2012 implementation notice, PIH Notice 2012-9. Additionally, PHAs serving multiple administrative fee areas were permitted, in lieu of the fee determined for their agency, to request a blended rate based on the actual location of their assisted units. These fee rates also apply to the Moderate Rehabilitation program and the 5-Year Mainstream Program.

Paperwork Reduction Act Statement

The information collection requirements contained in this document are pending approval by the Office of Management and Budget (OMB) in accordance with the Paperwork Reduction Act of 1995 (44 U.S.C. 3501-3520), and have been assigned OMB control number 2502-0348. In accordance with the Paperwork Reduction Act, HUD may not conduct or sponsor, and a person is not required to respond to, a collection of information unless the collection displays a currently valid control number.

Accordingly, the Department publishes the monthly per unit fee amount to be used for determining HA administrative fees under the Housing Choice Voucher and Moderate Rehabilitation programs as set forth on the Appendix to this notice.

Dated: July 6, 2012.
Deborah Hernandez,
General Deputy Assistant Secretary for Public and Indian Housing.

Appendix

Administrative Fees for the Section 8 Housing Choice Voucher and Moderate Rehabilitation Programs for Calendar Year 2012
PHA No. | Column A rate | Column B rate
AK901 | $84.45 | $78.83
AL001 | 58.64 | 54.73
AL002 | 59.56 | 55.60
AL004 | 58.20 | 54.32
AL005 | 58.20 | 54.32
AL006 | 58.20 | 54.32
AL007 | 58.20 | 54.32
AL008 | 58.20 | 54.32
AL010 | 58.64 | 54.73
AL011 | 58.20 | 54.32
AL012 | 58.20 | 54.32
AL013 | 58.64 | 54.73
AL014 | 58.20 | 54.32
AL047 | 59.58 | 55.62
AL048 | 58.20 | 54.32
AL049 | 58.20 | 54.32
AL050 | 58.20 | 54.32
AL052 | 58.20 | 54.32
AL053 | 58.20 | 54.32
AL054 | 58.20 | 54.32
AL055 | 58.20 | 54.32
AL060 | 58.20 | 54.32
AL061 | 58.20 | 54.32
AL063 | 58.64 | 54.73
AL068 | 58.20 | 54.32
AL069 | 58.64 | 54.73
AL072 | 58.64 | 54.73
AL073 | 58.35 | 54.45
AL075 | 58.20 | 54.32
AL077 | 58.20 | 54.32
AL086 | 58.64 | 54.73
AL090 | 58.20 | 54.32
AL091 | 58.20 | 54.32
AL099 | 58.20 | 54.32
AL103 | 58.20 | 54.32
AL105 | 58.20 | 54.32
AL107 | 58.20 | 54.32
AL112 | 58.20 | 54.32
AL114 | 58.20 | 54.32
AL115 | 58.20 | 54.32
AL116 | 58.20 | 54.32
AL118 | 58.20 | 54.32
AL121 | 58.20 | 54.32
AL124 | 58.35 | 54.45
AL125 | 58.64 | 54.73
AL128 | 58.20 | 54.32
AL129 | 58.20 | 54.32
AL131 | 58.20 | 54.32
AL138 | 58.20 | 54.32
AL139 | 58.20 | 54.32
AL152 | 58.20 | 54.32
AL154 | 58.20 | 54.32
AL155 | 58.20 | 54.32
AL160 | 58.20 | 54.32
AL165 | 60.78 | 56.74
AL169 | 59.56 | 55.60
AL171 | 58.20 | 54.32
AL172 | 58.20 | 54.32
AL173 | 58.20 | 54.32
AL174 | 58.20 | 54.32
AL177 | 58.20 | 54.32
AL181 | 58.20 | 54.32
AL192 | 58.20 | 54.32
AL202 | 59.56 | 55.60
AR002 | 60.72 | 56.68
AR003 | 55.66 | 51.95
AR004 | 60.72 | 56.68
AR006 | 60.72 | 56.68
AR010 | 55.01 | 51.34
AR012 | 53.75 | 50.17
AR015 | 55.99 | 52.26
AR016 | 53.75 | 50.17
AR017 | 55.66 | 51.95
AR020 | 53.75 | 50.17
AR024 | 58.99 | 55.06
AR031 | 55.66 | 51.95
AR033 | 53.75 | 50.17
AR034 | 55.66 | 51.95
AR035 | 53.75 | 50.17
AR037 | 53.75 | 50.17
AR039 | 53.75 | 50.17
AR041 | 60.72 | 56.68
AR042 | 55.66 | 51.95
AR045 | 53.75 | 50.17
AR048 | 53.75 | 50.17
AR052 | 53.75 | 50.17
AR059 | 53.75 | 50.17
AR066 | 53.75 | 50.17
AR068 | 53.75 | 50.17
AR082 | 53.75 | 50.17
AR104 | 55.66 | 51.95
AR117 | 53.75 | 50.17
AR121 | 53.75 | 50.17
AR131 | 55.66 | 51.95
AR135 | 53.75 | 50.17
AR152 | 53.75 | 50.17
AR161 | 53.75 | 50.17
AR163 | 55.66 | 51.95
AR166 | 53.75 | 50.17
AR170 | 60.72 | 56.68
AR175 | 60.72 | 56.68
AR176 | 53.75 | 50.17
AR177 | 53.75 | 50.17
AR181 | 55.66 | 51.95
AR194 | 55.66 | 51.95
AR197 | 53.75 | 50.17
AR200 | 53.75 | 50.17
AR201 | 53.75 | 50.17
AR202 | 53.75 | 50.17
AR210 | 53.75 | 50.17
AR211 | 53.75 | 50.17
AR213 | 53.75 | 50.17
AR214 | 53.75 | 50.17
AR215 | 53.75 | 50.17
AR219 | 60.72 | 56.68
AR222 | 53.75 | 50.17
AR223 | 53.75 | 50.17
AR224 | 53.75 | 50.17
AR225 | 53.75 | 50.17
AR226 | 53.75 | 50.17
AR228 | 53.75 | 50.17
AR232 | 55.66 | 51.95
AR238 | 53.75 | 50.17
AR240 | 53.75 | 50.17
AR241 | 55.66 | 51.95
AR246 | 53.75 | 50.17
AR247 | 53.75 | 50.17
AR249 | 53.75 | 50.17
AR250 | 53.75 | 50.17
AR252 | 60.72 | 56.68
AR257 | 53.75 | 50.17
AR264 | 58.99 | 55.06
AR265 | 53.75 | 50.17
AR266 | 53.75 | 50.17
AZ001 | 65.82 | 61.42
AZ003 | 65.82 | 61.42
AZ004 | 65.07 | 60.72
AZ005 | 65.82 | 61.42
AZ006 | 71.96 | 67.17
AZ008 | 50.87 | 47.48
AZ009 | 65.82 | 61.42
AZ010 | 65.82 | 61.42
AZ013 | 73.12 | 68.25
AZ021 | 65.82 | 61.42
AZ023 | 53.60 | 50.02
AZ025 | 65.07 | 60.72
AZ028 | 65.82 | 61.42
AZ031 | 65.82 | 61.42
AZ032 | 65.82 | 61.42
AZ033 | 65.07 | 60.72
AZ034 | 51.79 | 48.34
AZ035 | 73.12 | 68.25
AZ037 | 51.79 | 48.34
AZ038 | 65.82 | 61.42
AZ041 | 71.96 | 67.17
AZ043 | 88.12 | 82.26
AZ045 | 52.71 | 49.20
AZ880 | 65.82 | 61.42
AZ901 | 71.96 | 67.17
CA001 | 106.74 | 99.64
CA002 | 106.74 | 99.64
CA003 | 106.74 | 99.64
CA004 | 106.74 | 99.64
CA006 | 74.38 | 69.41
CA007 | 81.07 | 75.66
CA008 | 81.35 | 75.93
CA009 | 85.16 | 79.49
CA010 | 106.74 | 99.64
CA011 | 106.74 | 99.64
CA014 | 106.74 | 99.64
CA019 | 85.16 | 79.49
CA021 | 104.24 | 97.27
CA022 | 85.16 | 79.49
CA023 | 69.89 | 65.24
CA024 | 77.79 | 72.61
CA026 | 78.33 | 73.10
CA027 | 85.16 | 79.49
CA028 | 74.38 | 69.41
CA030 | 69.36 | 64.75
CA031 | 106.74 | 99.64
CA032 | 106.74 | 99.64
CA033 | 91.97 | 85.82
CA035 | 106.74 | 99.64
CA039 | 77.40 | 72.24
CA041 | 92.67 | 86.49
CA043 | 71.49 | 66.71
CA044 | 81.07 | 75.66
CA048 | 61.34 | 57.25
CA052 | 106.74 | 99.64
CA053 | 67.13 | 62.66
CA055 | 92.67 | 86.49
CA056 | 106.74 | 99.64
CA058 | 106.74 | 99.64
CA059 | 106.74 | 99.64
CA060 | 106.74 | 99.64
CA061 | 72.55 | 67.72
CA062 | 106.74 | 99.64
CA063 | 95.44 | 89.07
CA064 | 92.41 | 86.25
CA065 | 92.67 | 86.49
CA066 | 92.67 | 86.49
CA067 | 106.74 | 99.64
CA068 | 106.74 | 99.64
CA069 | 74.38 | 69.41
CA070 | 66.40 | 61.97
CA071 | 106.74 | 99.64
CA072 | 106.74 | 99.64
CA073 | 92.67 | 86.49
CA074 | 106.74 | 99.64
CA075 | 106.74 | 99.64
CA076 | 104.24 | 97.27
CA077 | 95.44 | 89.07
CA079 | 106.74 | 99.64
CA082 | 106.74 | 99.64
CA084 | 78.19 | 72.98
CA085 | 104.11 | 97.18
CA086 | 74.74 | 69.75
CA088 | 104.11 | 97.18
CA092 | 106.74 | 99.64
CA093 | 106.74 | 99.64
CA094 | 106.74 | 99.64
CA096 | 74.38 | 69.41
CA102 | 106.74 | 99.64
CA103 | 106.74 | 99.64
CA104 | 106.74 | 99.64
CA105 | 106.74 | 99.64
CA106 | 74.38 | 69.41
CA107 | 61.34 | 57.25
CA108 | 95.44 | 89.07
CA110 | 106.74 | 99.64
CA111 | 106.74 | 99.64
CA114 | 106.74 | 99.64
CA116 | 95.44 | 89.07
CA117 | 106.74 | 99.64
CA118 | 106.74 | 99.64
CA119 | 106.74 | 99.64
CA120 | 106.74 | 99.64
CA121 | 106.74 | 99.64
CA122 | 84.47 | 78.84
CA123 | 106.74 | 99.64
CA125 | 92.67 | 86.49
CA126 | 106.74 | 99.64
CA128 | 81.07 | 75.66
CA131 | 92.67 | 86.49
CA132 | 95.44 | 89.07
CA135 | 106.74 | 99.64
CA136 | 106.74 | 99.64
CA137 | 106.74 | 99.64
CA143 | 77.40 | 72.24
CA144 | 72.55 | 67.72
CA145 | 106.74 | 99.64
CA146 | 89.10 | 83.15
CA149 | 81.07 | 75.66
CA151 | 81.07 | 75.66
CA155 | 95.44 | 89.07
CA913 | 79.48 | 74.18
CO001 | 67.55 | 63.05
CO002 | 62.40 | 58.23
CO005 | 67.67 | 63.16
CO016 | 76.65 | 71.54
CO019 | 67.55 | 63.05
CO024 | 57.92 | 54.06
CO028 | 63.02 | 58.82
CO031 | 57.92 | 54.06
CO034 | 72.64 | 67.80
CO035 | 62.63 | 58.47
CO036 | 67.55 | 63.05
CO040 | 89.45 | 83.49
CO041 | 72.64 | 67.80
CO043 | 67.67 | 63.16
CO045 | 57.92 | 54.06
CO048 | 67.55 | 63.05
CO049 | 67.55 | 63.05
CO050 | 67.55 | 63.05
CO051 | 79.02 | 73.75
CO052 | 67.55 | 63.05
CO057 | 67.55 | 63.05
CO058 | 67.55 | 63.05
CO061 | 76.65 | 71.54
CO065 | 57.92 | 54.06
CO070 | 76.65 | 71.54
CO071 | 63.02 | 58.82
CO072 | 67.55 | 63.05
CO079 | 67.67 | 63.16
CO081 | 76.73 | 71.62
CO087 | 89.45 | 83.49
CO090 | 62.63 | 58.47
CO095 | 85.53 | 79.83
CO100 | 63.02 | 58.82
CO101 | 57.92 | 54.06
CO103 | 72.64 | 67.80
CO105 | 63.02 | 58.82
CO888 | 62.40 | 58.23
CO889 | 76.65 | 71.54
CO901 | 67.55 | 63.05
CO911 | 67.55 | 63.05
CT001 | 85.06 | 79.39
CT002 | 91.17 | 85.10
CT003 | 80.17 | 74.82
CT004 | 88.37 | 82.48
CT005 | 80.17 | 74.82
CT006 | 72.15 | 67.34
CT007 | 91.17 | 85.10
CT008 | 80.17 | 74.82
CT009 | 80.17 | 74.82
CT010 | 65.37 | 61.01
CT011 | 88.37 | 82.48
CT013 | 80.17 | 74.82
CT015 | 85.06 | 79.39
CT017 | 85.06 | 79.39
CT018 | 78.70 | 73.45
CT019 | 91.17 | 85.10
CT020 | 91.17 | 85.10
CT022 | 78.70 | 73.45
CT023 | 80.17 | 74.82
CT024 | 65.37 | 61.01
CT025 | 70.47 | 65.77
CT026 | 80.17 | 74.82
CT027 | 85.06 | 79.39
CT028 | 80.17 | 74.82
CT029 | 88.37 | 82.48
CT030 | 85.06 | 79.39
CT031 | 70.47 | 65.77
CT032 | 80.17 | 74.82
CT033 | 80.17 | 74.82
CT036 | 80.17 | 74.82
CT038 | 80.17 | 74.82
CT039 | 80.17 | 74.82
CT040 | 80.17 | 74.82
CT041 | 80.17 | 74.82
CT042 | 88.37 | 82.48
CT047 | 72.15 | 67.34
CT048 | 80.17 | 74.82
CT049 | 80.17 | 74.82
CT051 | 80.17 | 74.82
CT052 | 85.06 | 79.39
CT053 | 80.17 | 74.82
CT058 | 65.37 | 61.01
CT061 | 65.37 | 61.01
CT063 | 88.37 | 82.48
CT067 | 88.37 | 82.48
CT068 | 80.17 | 74.82
CT901 | 89.51 | 83.55
DC001 | 101.63 | 94.86
DC880 | 101.63 | 94.86
DE001 | 77.32 | 72.17
DE002 | 73.26 | 68.37
DE003 | 77.32 | 72.17
DE005 | 77.32 | 72.17
DE901 | 73.26 | 68.37
FL001 | 65.90 | 61.51
FL002 | 69.57 | 64.92
FL003 | 69.57 | 64.92
FL004 | 72.66 | 67.81
FL005 | 94.40 | 88.12
FL007 | 69.74 | 65.09
FL008 | 76.35 | 71.26
FL009 | 73.72 | 68.80
FL010 | 88.39 | 82.50
FL011 | 57.90 | 54.04
FL013 | 96.54 | 90.12
FL015 | 61.92 | 57.78
FL016 | 72.66 | 67.81
FL017 | 94.40 | 88.12
FL018 | 56.15 | 52.41
FL019 | 67.07 | 62.62
FL020 | 67.07 | 62.62
FL021 | 73.72 | 68.80
FL022 | 69.74 | 65.09
FL023 | 76.35 | 71.26
FL024 | 69.74 | 65.09
FL025 | 67.07 | 62.62
FL026 | 57.90 | 54.04
FL028 | 88.39 | 82.50
FL030 | 69.74 | 65.09
FL031 | 56.15 | 52.41
FL032 | 57.01 | 53.20
FL033 | 72.66 | 67.81
FL034 | 69.57 | 64.92
FL035 | 56.15 | 52.41
FL037 | 65.90 | 61.51
FL041 | 74.11 | 69.17
FL045 | 74.11 | 69.17
FL046 | 56.15 | 52.41
FL047 | 73.14 | 68.27
FL049 | 56.15 | 52.41
FL053 | 57.01 | 53.20
FL057 | 56.15 | 52.41
FL060 | 71.22 | 66.48
FL062 | 69.57 | 64.92
FL063 | 62.51 | 58.35
FL066 | 94.40 | 88.12
FL068 | 94.40 | 88.12
FL069 | 56.15 | 52.41
FL070 | 62.51 | 58.35
FL071 | 57.90 | 54.04
FL072 | 69.74 | 65.09
FL073 | 61.92 | 57.78
FL075 | 69.57 | 64.92
FL079 | 88.39 | 82.50
FL080 | 73.72 | 68.80
FL081 | 88.39 | 82.50
FL083 | 73.72 | 68.80
FL089 | 69.57 | 64.92
FL092 | 57.01 | 53.20
FL093 | 72.66 | 67.81
FL096 | 56.15 | 52.41
FL098 | 65.90 | 61.51
FL102 | 56.15 | 52.41
FL104 | 69.57 | 64.92
FL105 | 76.35 | 71.26
FL106 | 72.66 | 67.81
FL107 | 57.90 | 54.04
FL109 | 56.15 | 52.41
FL110 | 56.15 | 52.41
FL111 | 76.35 | 71.26
FL113 | 69.74 | 65.09
FL116 | 88.39 | 82.50
FL117 | 56.15 | 52.41
FL119 | 73.72 | 68.80
FL123 | 70.85 | 66.12
FL128 | 73.14 | 68.27
FL132 | 73.84 | 68.94
FL136 | 88.39 | 82.50
FL137 | 69.57 | 64.92
FL139 | 57.90 | 54.04
FL140 | 61.92 | 57.78
FL141 | 76.11 | 71.04
FL143 | 57.90 | 54.04
FL144 | 96.54 | 90.12
FL145 | 94.40 | 88.12
FL147 | 56.15 | 52.41
FL201 | 72.66 | 67.81
FL202 | 56.15 | 52.41
FL880 | 73.72 | 68.80
FL881 | 94.40 | 88.12
FL888 | 69.57 | 64.92
GA001 | 58.70 | 54.79
GA002 | 57.63 | 53.79
GA004 | 58.20 | 54.32
GA006 | 74.94 | 69.93
GA007 | 57.63 | 53.79
GA009 | 57.63 | 53.79
GA010 | 74.94 | 69.93
GA011 | 74.94 | 69.93
GA023 | 57.63 | 53.79
GA062 | 57.63 | 53.79
GA078 | 74.94 | 69.93
GA095 | 74.94 | 69.93
GA116 | 74.94 | 69.93
GA188 | 74.94 | 69.93
GA228 | 74.94 | 69.93
GA232 | 74.94 | 69.93
GA237 | 74.94 | 69.93
GA264 | 74.94 | 69.93
GA266 | 74.94 | 69.93
GA285 | 57.63 | 53.79
GA901 | 74.94 | 69.93
GQ901 | 98.83 | 92.25
HI002 | 90.57 | 84.53
HI003 | 101.47 | 94.71
HI004 | 102.01 | 95.22
HI005 | 102.01 | 95.22
HI901 | 101.47 | 94.71
IA002 | 56.23 | 52.48
IA004 | 59.12 | 55.18
IA015 | 56.23 | 52.48
IA018 | 59.11 | 55.18
IA020 | 67.55 | 63.06
IA022 | 68.85 | 64.27
IA023 | 60.08 | 56.07
IA024 | 65.40 | 61.04
IA030 | 56.23 | 52.48
IA038 | 65.66 | 61.28
IA042 | 56.23 | 52.48
IA045 | 64.00 | 59.73
IA047 | 56.23 | 52.48
IA049 | 56.23 | 52.48
IA050 | 65.66 | 61.28
IA054 | 56.23 | 52.48
IA056 | 56.23 | 52.48
IA057 | 56.23 | 52.48
IA084 | 56.23 | 52.48
IA087 | 60.53 | 56.49
IA089 | 59.64 | 55.65
IA098 | 59.24 | 55.30
IA100 | 56.23 | 52.48
IA107 | 56.23 | 52.48
IA108 | 56.23 | 52.48
IA113 | 65.66 | 61.28
IA114 | 56.23 | 52.48
IA117 | 58.91 | 54.99
IA119 | 56.23 | 52.48
IA120 | 67.55 | 63.06
IA121 | 56.23 | 52.48
IA122 | 56.23 | 52.48
IA123 | 64.00 | 59.73
IA124 | 58.07 | 54.19
IA125 | 56.23 | 52.48
IA126 | 60.26 | 56.24
IA127 | 56.23 | 52.48
IA128 | 56.23 | 52.48
IA129 | 56.23 | 52.48
IA130 | 56.23 | 52.48
IA131 | 67.55 | 63.06
IA132 | 65.66 | 61.28
IA133 | 56.23 | 52.48
IA136 | 58.85 | 54.93
ID005 | 58.95 | 55.02
ID013 | 73.26 | 68.38
ID016 | 73.26 | 68.38
ID021 | 73.26 | 68.38
ID901 | 63.76 | 59.51
IL001 | 58.90 | 54.97
IL002 | 84.74 | 79.08
IL003 | 66.91 | 62.45
IL004 | 60.98 | 56.91
IL006 | 59.72 | 55.74
IL009 | 64.00 | 59.73
IL010 | 64.00 | 59.73
IL011 | 54.96 | 51.29
IL012 | 57.70 | 53.85
IL014 | 69.17 | 64.56
IL015 | 58.90 | 54.97
IL016 | 54.96 | 51.29
IL018 | 64.00 | 59.73
IL020 | 64.00 | 59.73
IL022 | 60.85 | 56.79
IL024 | 84.74 | 79.08
IL025 | 84.74 | 79.08
IL026 | 84.74 | 79.08
IL028 | 60.98 | 56.91
IL030 | 58.90 | 54.97
IL032 | 65.74 | 61.36
IL034 | 59.72 | 55.74
IL035 | 65.74 | 61.36
IL036 | 54.96 | 51.29
IL037 | 54.96 | 51.29
IL038 | 54.96 | 51.29
IL039 | 57.81 | 53.96
IL040 | 54.96 | 51.29
IL042 | 54.96 | 51.29
IL043 | 54.96 | 51.29
IL050 | 55.61 | 51.89
IL051 | 59.51 | 55.55
IL052 | 54.96 | 51.29
IL053 | 55.61 | 51.89
IL054 | 84.74 | 79.08
IL056 | 84.74 | 79.08
IL057 | 54.96 | 51.29
IL059 | 54.96 | 51.29
IL061 | 55.61 | 51.89
IL069 | 54.96 | 51.29
IL070 | 54.96 | 51.29
IL074 | 58.90 | 54.97
IL076 | 54.96 | 51.29
IL079 | 54.96 | 51.29
IL082 | 54.96 | 51.29
IL083 | 60.85 | 56.79
IL084 | 58.30 | 54.41
IL085 | 56.11 | 52.37
IL086 | 58.30 | 54.41
IL087 | 54.96 | 51.29
IL088 | 54.96 | 51.29
IL089 | 67.15 | 62.68
IL090 | 84.74 | 79.08
IL091 | 54.96 | 51.29
IL092 | 84.74 | 79.08
IL094 | 54.96 | 51.29
IL095 | 64.46 | 60.16
IL096 | 54.96 | 51.29
IL101 | 84.74 | 79.08
IL103 | 84.74 | 79.08
IL104 | 66.91 | 62.45
IL107 | 84.74 | 79.08
IL115 | 54.96 | 51.29
IL116 | 84.74 | 79.08
IL117 | 59.51 | 55.55
IL120 | 54.96 | 51.29
IL122 | 60.85 | 56.79
IL123 | 54.96 | 51.29
IL124 | 66.91 | 62.45
IL126 | 55.61 | 51.89
IL130 | 84.74 | 79.08
IL131 | 64.00 | 59.73
IL136 | 84.74 | 79.08
IL137 | 85.46 | 79.76
IL911 | 54.96 | 51.29
IN002 | 48.38 | 45.15
IN003 | 53.09 | 49.57
IN004 | 49.46 | 46.16
IN005 | 49.46 | 46.16
IN006 | 58.70 | 54.79
IN007 | 51.65 | 48.21
IN009 | 48.38 | 45.15
IN010 | 64.82 | 60.51
IN011 | 64.82 | 60.51
IN012 | 54.82 | 51.17
IN015 | 52.26 | 48.78
IN016 | 50.95 | 47.56
IN017 | 58.70 | 54.79
IN018 | 48.38 | 45.15
IN019 | 51.20 | 47.78
IN020 | 52.26 | 48.78
IN021 | 49.46 | 46.16
IN022 | 52.62 | 49.12
IN023 | 54.82 | 51.17
IN025 | 54.82 | 51.17
IN026 | 51.31 | 47.89
IN029 | 64.82 | 60.51
IN031 | 48.38 | 45.15
IN032 | 49.46 | 46.16
IN035 | 49.46 | 46.16
IN036 | 48.38 | 45.15
IN037 | 50.95 | 47.56
IN041 | 48.38 | 45.15
IN043 | 48.38 | 45.15
IN047 | 48.38 | 45.15
IN048 | 48.38 | 45.15
IN050 | 48.38 | 45.15
IN055 | 49.46 | 46.16
IN056 | 50.64 | 47.26
IN058 | 53.57 | 50.01
IN060 | 48.38 | 45.15
IN062 | 51.93 | 48.48
IN067 | 48.38 | 45.15
IN069 | 48.38 | 45.15
IN070 | 62.29 | 58.13
IN071 | 56.70 | 52.91
IN073 | 48.38 | 45.15
IN077 | 49.46 | 46.16
IN078 | 50.64 | 47.26
IN079 | 58.70 | 54.79
IN080 | 58.70 | 54.79
IN083 | 54.82 | 51.17
IN084 | 48.38 | 45.15
IN086 | 48.38 | 45.15
IN091 | 48.38 | 45.15
IN092 | 48.38 | 45.15
IN094 | 49.58 | 46.27
IN100 | 52.26 | 48.78
IN101 | 51.31 | 47.89
IN103 | 48.38 | 45.15
IN901 | 64.10 | 59.84
KS001 | 57.26 | 53.44
KS002 | 55.01 | 51.35
KS004 | 59.27 | 55.31
KS006 | 50.37 | 47.01
KS017 | 50.37 | 47.01
KS038 | 50.37 | 47.01
KS041 | 50.37 | 47.01
KS043 | 57.26 | 53.44
KS053 | 60.79 | 56.74
KS062 | 50.37 | 47.01
KS063 | 50.42 | 47.06
KS068 | 57.26 | 53.44
KS073 | 59.27 | 55.31
KS091 | 50.37 | 47.01
KS105 | 50.42 | 47.06
KS149 | 50.37 | 47.01
KS159 | 56.66 | 52.88
KS161 | 50.37 | 47.01
KS162 | 57.26 | 53.44
KS163 | 50.37 | 47.01
KS165 | 50.37 | 47.01
KS166 | 50.37 | 47.01
KS167 | 50.42 | 47.06
KS168 | 50.37 | 47.01
KS169 | 59.27 | 55.31
KS170 | 50.37 | 47.01
KY001 | 54.82 | 51.17
KY003 | 51.83 | 48.37
KY004 | 60.71 | 56.67
KY007 | 50.88 | 47.48
KY008 | 50.88 | 47.48
KY009 | 54.82 | 51.17
KY011 | 59.76 | 55.78
KY012 | 50.95 | 47.56
KY015 | 62.29 | 58.13
KY017 | 50.88 | 47.48
KY021 | 50.88 | 47.48
KY022 | 50.88 | 47.48
KY026 | 50.88 | 47.48
KY027 | 50.88 | 47.48
KY035 | 50.88 | 47.48
KY040 | 50.88 | 47.48
KY047 | 50.88 | 47.48
KY053 | 50.88 | 47.48
KY056 | 50.88 | 47.48
KY061 | 60.71 | 56.67
KY071 | 54.82 | 51.17
KY086 | 50.88 | 47.48
KY107 | 50.88 | 47.48
KY121 | 50.88 | 47.48
KY132 | 56.34 | 52.59
KY133 | 62.29 | 58.13
KY135 | 62.29 | 58.13
KY136 | 62.29 | 58.13
KY137 | 50.88 | 47.48
KY138 | 50.88 | 47.48
KY140 | 60.71 | 56.67
KY141 | 50.88 | 47.48
KY142 | 53.78 | 50.19
KY150 | 50.88 | 47.48
KY157 | 50.88 | 47.48
KY160 | 50.88 | 47.48
KY161 | 53.78 | 50.19
KY163 | 50.88 | 47.48
KY169 | 50.88 | 47.48
KY171 | 54.82 | 51.17
KY901 | 59.43 | 55.47
LA001 | 66.29 | 61.86
LA002 | 64.89 | 60.58
LA003 | 71.58 | 66.81
LA004 | 60.78 | 56.73
LA005 | 60.78 | 56.73
LA006 | 60.78 | 56.73
LA009 | 71.58 | 66.81
LA012 | 66.29 | 61.86
LA013 | 66.29 | 61.86
LA023 | 60.78 | 56.73
LA024 | 60.24 | 56.22
LA029 | 60.24 | 56.22
LA031 | 60.24 | 56.22
LA032 | 60.24 | 56.22
LA033 | 60.24 | 56.22
LA036 | 60.24 | 56.22
LA037 | 64.31 | 60.03
LA046 | 60.78 | 56.73
LA057 | 60.78 | 56.73
LA063 | 60.78 | 56.73
LA067 | 60.24 | 56.22
LA074 | 60.24 | 56.22
LA075 | 60.24 | 56.22
LA086 | 60.24 | 56.22
LA094 | 66.29 | 61.86
LA097 | 60.24 | 56.22
LA099 | 60.24 | 56.22
LA101 | 71.58 | 66.81
LA103 | 66.29 | 61.86
LA104 | 60.24 | 56.22
LA111 | 60.24 | 56.22
LA114 | 60.24 | 56.22
LA115 | 60.24 | 56.22
LA120 | 60.78 | 56.73
LA122 | 60.78 | 56.73
LA125 | 60.24 | 56.22
LA128 | 60.24 | 56.22
LA129 | 60.78 | 56.73
LA132 | 60.24 | 56.22
LA159 | 60.24 | 56.22
LA163 | 60.24 | 56.22
LA165 | 60.24 | 56.22
LA166 | 60.24 | 56.22
LA168 | 60.24 | 56.22
LA169 | 60.24 | 56.22
LA171 | 60.78 | 56.73
LA172 | 60.78 | 56.73
LA173 | 60.78 | 56.73
LA174 | 60.24 | 56.22
LA178 | 60.78 | 56.73
LA179 | 60.78 | 56.73
LA181 | 66.29 | 61.86
LA182 | 60.24 | 56.22
LA184 | 64.89 | 60.58
LA186 | 60.78 | 56.73
LA187 | 66.29 | 61.86
LA188 | 60.24 | 56.22
LA189 | 60.24 | 56.22
LA190 | 64.89 | 60.58
LA192 | 60.24 | 56.22
LA194 | 63.47 | 59.25
LA195 | 60.24 | 56.22
LA196 | 60.78 | 56.73
LA199 | 71.58 | 66.81
LA202 | 71.58 | 66.81
LA204 | 71.58 | 66.81
LA205 | 71.58 | 66.81
LA206 | 60.24 | 56.22
LA207 | 60.24 | 56.22
LA211 | 63.47 | 59.25
LA212 | 60.24 | 56.22
LA213 | 64.31 | 60.03
LA214 | 60.78 | 56.73
LA215 | 60.24 | 56.22
LA217 | 60.24 | 56.22
LA219 | 71.58 | 66.81
LA220 | 60.24 | 56.22
LA222 | 60.24 | 56.22
LA229 | 60.24 | 56.22
LA230 | 64.89 | 60.58
LA232 | 60.24 | 56.22
LA233 | 60.24 | 56.22
LA238 | 66.29 | 61.86
LA241 | 60.24 | 56.22
LA242 | 60.24 | 56.22
LA246 | 60.24 | 56.22
LA247 | 60.24 | 56.22
LA248 | 60.24 | 56.22
LA253 | 63.47 | 59.25
LA254 | 66.29 | 61.86
LA257 | 60.24 | 56.22
LA258 | 60.24 | 56.22
LA266 | 60.78 | 56.73
LA888 | 64.89 | 60.58
LA889 | 66.29 | 61.86
LA903 | 66.29 | 61.87
MA001 | 99.98 | 93.32
MA002 | 103.81 | 96.88
MA003 | 103.81 | 96.88
MA005 | 99.98 | 93.32
MA006 | 99.98 | 93.32
MA007 | 99.98 | 93.32
MA008 | 99.98 | 93.32
MA010 | 99.98 | 93.32
MA012 | 99.98 | 93.32
MA013 | 103.81 | 96.88
MA014 | 103.81 | 96.88
MA015 | 103.81 | 96.88
MA016 | 103.81 | 96.88
MA017 | 103.81 | 96.88
MA018 | 99.98 | 93.32
MA019 | 103.81 | 96.88
MA020 | 103.81 | 96.88
MA022 | 103.81 | 96.88
MA023 | 103.81 | 96.88
MA024 | 99.98 | 93.32
MA025 | 103.81 | 96.88
MA026 | 99.98 | 93.32
MA027 | 103.81 | 96.88
MA028 | 103.81 | 96.88
MA029 | 99.98 | 93.32
MA031 | 103.81 | 96.88
MA032 | 103.81 | 96.88
MA033 | 103.81 | 96.88
MA034 | 99.98 | 93.32
MA035 | 99.98 | 93.32
MA036 | 103.81 | 96.88
MA037 | 99.98 | 93.32
MA039 | 99.98 | 93.32
MA040 | 103.81 | 96.88
MA041 | 99.98 | 93.32
MA042 | 103.81 | 96.88
MA043 | 99.98 | 93.32
MA044 | 103.81 | 96.88
MA045 | 103.81 | 96.88
MA046 | 104.05 | 97.12
MA047 | 104.05 | 97.12
MA048 | 103.81 | 96.88
MA050 | 99.98 | 93.32
MA051 | 99.98 | 93.32
MA053 | 103.81 | 96.88
MA054 | 103.81 | 96.88
MA055 | 103.81 | 96.88
MA056 | 103.81 | 96.88
MA057 | 103.81 | 96.88
MA059 | 103.81 | 96.88
MA060 | 99.98 | 93.32
MA061 | 103.81 | 96.88
MA063 | 103.81 | 96.88
MA065 | 103.81 | 96.88
MA066 | 99.98 | 93.32
MA067 | 103.81 | 96.88
MA069 | 103.81 | 96.88
MA070 | 103.81 | 96.88
MA071 | 103.81 | 96.88
MA072 | 103.81 | 96.88
MA073 | 103.81 | 96.88
MA074 | 103.81 | 96.88
MA075 | 103.81 | 96.88
MA076 | 99.98 | 93.32
MA077 | 99.98 | 93.32
MA078 | 99.98 | 93.32
MA079 | 103.81 | 96.88
MA080 | 99.98 | 93.32
MA081 | 99.98 | 93.32
MA082 | 99.98 | 93.32
MA084 | 99.98 | 93.32
MA085 | 99.98 | 93.32
MA086 | 99.98 | 93.32
MA087 | 99.98 | 93.32
MA088 | 99.98 | 93.32
MA089 | 103.81 | 96.88
MA090 | 103.81 | 96.88
MA091 | 103.81 | 96.88
MA092 | 103.81 | 96.88
MA093 | 103.81 | 96.88
MA094 | 99.98 | 93.32
MA095 | 104.05 | 97.12
MA096 | 99.98 | 93.32
MA098 | 103.81 | 96.88
MA099 | 103.81 | 96.88
MA100 | 99.98 | 93.32
MA101 | 103.81 | 96.88
MA105 | 99.98 | 93.32
MA106 | 99.98 | 93.32
MA107 | 99.98 | 93.32
MA108 | 99.98 | 93.32
MA109 | 103.81 | 96.88
MA110 | 104.05 | 97.12
MA111 | 103.81 | 96.88
MA112 | 103.81 | 96.88
MA116 | 103.81 | 96.88
MA117 | 103.81 | 96.88
MA118 | 103.81 | 96.88
MA119 | 103.81 | 96.88
MA121 | 103.81 | 96.88
MA122 | 99.98 | 93.32
MA123 | 99.98 | 93.32
MA125 | 103.81 | 96.88
MA126 | 99.98 | 93.32
MA127 | 99.98 | 93.32
MA133 | 103.81 | 96.88
MA134 | 103.81 | 96.88
MA135 | 103.81 | 96.88
MA138 | 104.05 | 97.12
MA139 | 99.98 | 93.32
MA140 | 103.81 | 96.88
MA147 | 103.81 | 96.88
MA154 | 103.81 | 96.88
MA155 | 103.81 | 96.88
MA165 | 103.81 | 96.88
MA170 | 102.25 | 95.43
MA172 | 99.98 | 93.32
MA174 | 103.81 | 96.88
MA181 | 104.05 | 97.12
MA188 | 99.98 | 93.32
MA880 | 103.81 | 96.88
MA881 | 102.25 | 95.43
MA882 | 99.98 | 93.32
MA883 | 103.81 | 96.88
MA884 | 99.98 | 93.32
MA901 | 102.25 | 95.43
MD001 | 75.97 | 70.90
MD002 | 75.97 | 70.90
MD003 | 101.63 | 94.86
MD004 | 101.63 | 94.86
MD006 | 59.59 | 55.61
MD007 | 101.63 | 94.86
MD009 | 57.55 | 53.71
MD013 | 70.56 | 65.85
MD014 | 68.28 | 63.73
MD015 | 101.63 | 94.86
MD016 | 77.32 | 72.17
MD018 | 75.97 | 70.90
MD019 | 70.56 | 65.85
MD021 | 86.59 | 80.81
MD022 | 101.63 | 94.86
MD023 | 75.97 | 70.90
MD024 | 101.63 | 94.86
MD025 | 75.97 | 70.90
MD027 | 75.97 | 70.90
MD028 | 59.59 | 55.61
MD029 | 77.32 | 72.17
MD032 | 75.97 | 70.90
MD033 | 75.97 | 70.90
MD034 | 75.97 | 70.90
MD901 | 101.63 | 94.86
ME001 | 57.28 | 53.46
ME002 | 57.28 | 53.46
ME003 | 91.54 | 85.44
ME004 | 57.28 | 53.46
ME005 | 65.51 | 61.13
ME006 | 70.00 | 65.32
ME007 | 65.51 | 61.13
ME008 | 60.22 | 56.20
ME009 | 66.49 | 62.07
ME011 | 80.53 | 75.16
ME015 | 91.54 | 85.44
ME018 | 66.49 | 62.07
ME019 | 73.37 | 68.46
ME020 | 91.54 | 85.44
ME021 | 66.49 | 62.07
ME025 | 57.28 | 53.46
ME027 | 58.80 | 54.89
ME028 | 80.53 | 75.16
ME030 | 60.22 | 56.20
ME031 | 80.53 | 75.16
ME901 | 91.32 | 85.24
MI001 | 63.46 | 59.23
MI003 | 63.46 | 59.23
MI005 | 63.46 | 59.23
MI006 | 54.26 | 50.65
MI008 | 63.46 | 59.23
MI009 | 54.62 | 50.98
MI010 | 55.31 | 51.63
MI019 | 50.19 | 46.84
MI020 | 50.19 | 46.84
MI023 | 50.19 | 46.84
MI026 | 75.61 | 70.57
MI027 | 63.46 | 59.23
MI030 | 50.19 | 46.84
MI031 | 59.90 | 55.91
MI032 | 55.31 | 51.63
MI035 | 57.19 | 53.39
MI036 | 50.19 | 46.84
MI037 | 63.46 | 59.23
MI038 | 54.84 | 51.19
MI039 | 63.46 | 59.23
MI040 | 63.46 | 59.23
MI044 | 63.46 | 59.23
MI045 | 63.46 | 59.23
MI047 | 50.19 | 46.84
MI048 | 63.46 | 59.23
MI049 | 50.19 | 46.84
MI050 | 50.19 | 46.84
MI051 | 63.46 | 59.23
MI052 | 63.46 | 59.23
MI055 | 63.46 | 59.23
MI058 | 60.84 | 56.79
MI059 | 63.46 | 59.23
MI060 | 53.83 | 50.23
MI061 | 54.17 | 50.56
MI063 | 50.19 | 46.84
MI064 | 75.61 | 70.57
MI066 | 59.90 | 55.91
MI070 | 53.83 | 50.23
MI073 | 59.90 | 55.91
MI074 | 54.17 | 50.56
MI080 | 55.71 | 52.00
MI084 | 53.83 | 50.23
MI087 | 53.83 | 50.23
MI089 | 63.46 | 59.23
MI093 | 59.90 | 55.91
MI094 | 50.19 | 46.84
MI096 | 63.46 | 59.23
MI097 | 63.46 | 59.23
MI100 | 63.46 | 59.23
MI112 | 50.19 | 46.84
MI115 | 59.90 | 55.91
MI117 | 50.40 | 47.03
MI119 | 50.19 | 46.84
MI120 | 55.31 | 51.63
MI121 | 54.17 | 50.56
MI132 | 50.19 | 46.84
MI139 | 63.46 | 59.23
MI157 | 63.46 | 59.23
MI160 | 63.46 | 59.23
MI165 | 63.46 | 59.23
MI167 | 60.84 | 56.79
MI168 | 60.84 | 56.79
MI178 | 50.19 | 46.84
MI186 | 50.19 | 46.84
MI188 | 63.46 | 59.23
MI194 | 60.84 | 56.79
MI198 | 59.90 | 55.91
MI880 | 60.84 | 56.79
MI901 | 63.46 | 59.23
MN001 | 76.62 | 71.51
MN002 | 76.62 | 71.51
MN003 | 56.67 | 52.90
MN006 | 52.63 | 49.12
MN007 | 56.67 | 52.90
MN008 | 51.91 | 48.44
MN009 | 51.91 | 48.44
MN010 | 76.62 | 71.51
MN017 | 62.41 | 58.25
MN018 | 51.91 | 48.44
MN021 | 59.66 | 55.69
MN032 | 51.91 | 48.44
MN034 | 51.91 | 48.44
MN037 | 51.91 | 48.44
MN038 | 58.38 | 54.48
MN045 | 59.66 | 55.69
MN049 | 51.91 | 48.44
MN051 | 54.46 | 50.82
MN063 | 56.92 | 53.12
MN067 | 76.62 | 71.51
MN073 | 56.67 | 52.90
MN077 | 56.63 | 52.86
MN085 | 51.91 | 48.44
MN090 | 51.91 | 48.44
MN101 | 51.91 | 48.44
MN107 | 51.91 | 48.44
MN128 | 51.91 | 48.44
MN144 | 76.62 | 71.51
MN147 | 76.62 | 71.51
MN151 | 63.44 | 59.22
MN152 | 76.62 | 71.51
MN153 | 51.91 | 48.44
MN154 | 51.91 | 48.44
MN158 | 58.72 | 54.81
MN161 | 54.46 | 50.82
MN163 | 76.62 | 71.51
MN164 | 62.41 | 58.25
MN166 | 51.91 | 48.44
MN167 | 56.92 | 53.12
MN168 | 54.46 | 50.82
MN169 | 51.91 | 48.44
MN170 | 76.62 | 71.51
MN171 | 53.97 | 50.37
MN172 | 58.38 | 54.48
MN173 | 51.91 | 48.44
MN174 | 51.91 | 48.44
MN176 | 51.91 | 48.44
MN177 | 51.91 | 48.44
MN178 | 54.46 | 50.82
MN179 | 51.91 | 48.44
MN180 | 51.91 | 48.44
MN182 | 51.91 | 48.44
MN184 | 76.62 | 71.51
MN186 | 51.91 | 48.44
MN188 | 51.91 | 48.44
MN190 | 51.91 | 48.44
MN191 | 51.91 | 48.44
MN192 | 51.91 | 48.44
MN193 | 58.32 | 54.44
MN197 | 62.92 | 58.74
MN200 | 51.91 | 48.44
MN203 | 54.46 | 50.82
MN212 | 76.62 | 71.51
MN216 | 76.62 | 71.51
MN219 | 56.92 | 53.12
MN220 | 56.63 | 52.86
MN801 | 76.62 | 71.51
MN802 | 76.62 | 71.51
MN803 | 76.62 | 71.51
MO001 | 58.90 | 54.97
MO002 | 57.26 | 53.44
MO003 | 55.97 | 52.24
MO004 | 58.90 | 54.97
MO006 | 58.90 | 54.97
MO007 | 55.97 | 52.24
MO008 | 55.97 | 52.24
MO009 | 55.97 | 52.24
MO010 | 55.97 | 52.24
MO014 | 55.97 | 52.24
MO016 | 55.97 | 52.24
MO017 | 57.26 | 53.44
MO030 | 57.26 | 53.44
MO037 | 55.97 | 52.24
MO040 | 55.97 | 52.24
MO053 | 57.26 | 53.44
MO058 | 55.97 | 52.24
MO060 | 55.97 | 52.24
MO065 | 55.97 | 52.24
MO070 | 57.26 | 53.44
MO072 | 55.97 | 52.24
MO074 | 55.97 | 52.24
MO076 | 55.97 | 52.24
MO080 | 55.97 | 52.24
MO107 | 55.97 | 52.24
MO111 | 55.97 | 52.24
MO129 | 55.97 | 52.24
MO133 | 55.97 | 52.24
MO145 | 55.97 | 52.24
MO149 | 55.97 | 52.24
MO188 | 55.97 | 52.24
MO190 | 55.97 | 52.24
MO192 | 55.97 | 52.24
MO193 | 57.26 | 53.44
MO196 | 56.66 | 52.88
MO197 | 57.26 | 53.44
MO198 | 55.97 | 52.24
MO199 | 58.90 | 54.97
MO200 | 55.97 | 52.24
MO203 | 55.97 | 52.24
MO204 | 56.66 | 52.88
MO205 | 58.90 | 54.97
MO206 | 58.29 | 54.39
MO207 | 55.97 | 52.24
MO208 | 55.97 | 52.24
MO209 | 55.97 | 52.24
MO210 | 57.26 | 53.44
MO212 | 55.97 | 52.24
MO213 | 57.26 | 53.44
MO215 | 55.97 | 52.24
MO216 | 55.97 | 52.24
MO217 | 55.97 | 52.24
MO219 | 57.26 | 53.44
MO227 | 58.90 | 54.97
MO880 | 57.26 | 53.44
MS004 | 57.65 | 53.81
MS005 | 59.19 | 55.24
MS006 | 57.65 | 53.81
MS016 | 58.99 | 55.06
MS019 | 57.65 | 53.81
MS030 | 57.65 | 53.81
MS040 | 59.19 | 55.24
MS057 | 57.65 | 53.81
MS058 | 69.84 | 65.18
MS095 | 57.65 | 53.81
MS103 | 69.84 | 65.18
MS107 | 57.65 | 53.81
MS109 | 59.19 | 55.24
MS128 | 57.65 | 53.81
MS301 | 59.19 | 55.24
MT001 | 73.06 | 68.19
MT002 | 64.68 | 60.38
MT003 | 60.72 | 56.66
MT004 | 70.60 | 65.89
MT006 | 57.20 | 53.39
MT015 | 61.97 | 57.83
MT033 | 65.76 | 61.37
MT036 | 61.97 | 57.83
MT901 | 73.06 | 68.19
NC001 | 56.33 | 52.57
NC002 | 67.29 | 62.80
NC003 | 61.71 | 57.59
NC004 | 55.31 | 51.62
NC006 | 58.29 | 54.41
NC007 | 56.33 | 52.57
NC008 | 61.71 | 57.59
NC009 | 57.26 | 53.43
NC011 | 58.29 | 54.41
NC012 | 58.29 | 54.41
NC013 | 67.29 | 62.80
NC014 | 55.31 | 51.62
NC015 | 56.33 | 52.57
NC018 | 55.31 | 51.62
NC019 | 56.33 | 52.57
NC020 | 55.31 | 51.62
NC021 | 67.29 | 62.80
NC022 | 56.33 | 52.57
NC025 | 55.31 | 51.62
NC032 | 56.33 | 52.57
NC035 | 55.82 | 52.10
NC039 | 57.24 | 53.43
NC043 | 55.31 | 51.62
NC050 | 56.33 | 52.57
NC056 | 59.34 | 55.40
NC057 | 61.71 | 57.59
NC059 | 58.29 | 54.41
NC065 | 61.71 | 57.59
NC070 | 60.60 | 56.55
NC071 | 57.24 | 53.43
NC072 | 60.34 | 56.32
NC075 | 55.31 | 51.62
NC077 | 55.31 | 51.62
NC081 | 58.29 | 54.41
NC087 | 56.33 | 52.57
NC089 | 55.31 | 51.62
NC098 | 56.33 | 52.57
NC102 | 60.60 | 56.55
NC104 | 67.29 | 62.80
NC118 | 55.31 | 51.62
NC120 | 67.29 | 62.80
NC134 | 60.60 | 56.55
NC137 | 56.33 | 52.57
NC138 | 55.31 | 51.62
NC139 | 55.31 | 51.62
NC140 | 56.33 | 52.57
NC141 | 55.31 | 51.62
NC144 | 56.33 | 52.57
NC145 | 68.93 | 64.33
NC146 | 55.31 | 51.62
NC147 | 56.33 | 52.57
NC149 | 55.31 | 51.62
NC150 | 55.31 | 51.62
NC151 | 55.31 | 51.62
NC152 | 56.33 | 52.57
NC154 | 55.31 | 51.62
NC155 | 67.29 | 62.80
NC158 | 55.31 | 51.62
NC159 | 59.34 | 55.40
NC160 | 55.31 | 51.62
NC161 | 55.31 | 51.62
NC163 | 56.33 | 52.57
NC164 | 67.29 | 62.80
NC165 | 55.31 | 51.62
NC166 | 58.29 | 54.41
NC167 | 67.20 | 62.72
NC173 | 56.33 | 52.57
NC175 | 56.33 | 52.57
NC901 | 55.31 | 51.62
ND001 | 62.41 | 58.25
ND002 | 55.99 | 52.26
ND003 | 55.99 | 52.26
ND009 | 55.99 | 52.26
ND010 | 62.55 | 58.37
ND011 | 55.99 | 52.26
ND012 | 59.66 | 55.69
ND013 | 55.99 | 52.26
ND014 | 62.41 | 58.25
ND015 | 55.99 | 52.26
ND016 | 55.99 | 52.26
ND017 | 55.99 | 52.26
ND019 | 55.99 | 52.26
ND021 | 62.55 | 58.37
ND022 | 55.99 | 52.26
ND024 | 55.99 | 52.26
ND025 | 55.99 | 52.26
ND026 | 55.99 | 52.26
ND028 | 55.99 | 52.26
ND030 | 55.99 | 52.26
ND031 | 55.99 | 52.26
ND035 | 55.99 | 52.26
ND036 | 55.99 | 52.26
ND037 | 55.99 | 52.26
ND038 | 55.99 | 52.26
ND039 | 55.99 | 52.26
ND040 | 55.99 | 52.26
ND044 | 55.99 | 52.26
ND049 | 55.99 | 52.26
ND052 | 55.99 | 52.26
ND054 | 55.99 | 52.26
ND055 | 55.99 | 52.26
ND057 | 55.99 | 52.26
ND070 | 55.99 | 52.26
NE001 | 60.08 | 56.07
NE002 | 59.29 | 55.34
NE003 | 57.52 | 53.68
NE004 | 57.52 | 53.68
NE010 | 57.52 | 53.68
NE041 | 57.52 | 53.68
NE078 | 57.52 | 53.68
NE083 | 57.52 | 53.68
NE094 | 57.52 | 53.68
NE100 | 57.52 | 53.68
NE104 | 57.52 | 53.68
NE114 | 57.52 | 53.68
NE120 | 57.52 | 53.68
NE123 | 57.52 | 53.68
NE141 | 57.52 | 53.68
NE143 | 57.52 | 53.68
NE150 | 57.52 | 53.68
NE153 | 60.08 | 56.07
NE157 | 57.52 | 53.68
NE174 | 60.08 | 56.07
NE175 | 59.11 | 55.18
NE179 | 57.52 | 53.68
NE180 | 58.85 | 54.93
NE181 | 57.52 | 53.68
NE182 | 57.52 | 53.68
NH001 | 80.86 | 75.46
NH002 | 85.90 | 80.17
NH003 | 83.72 | 78.15
NH004 | 83.72 | 78.15
NH005 | 94.85 | 88.52
NH006 | 83.72 | 78.15
NH007 | 74.71 | 69.73
NH008 | 83.72 | 78.15
NH009 | 77.13 | 71.98
NH010 | 88.64 | 82.73
NH011 | 67.99 | 63.47
NH012 | 72.43 | 67.60
NH013 | 83.72 | 78.15
NH014 | 83.72 | 78.15
NH015 | 67.99 | 63.47
NH016 | 67.99 | 63.47
NH022 | 99.98 | 93.32
NH888 | 85.90 | 80.17
NH901 | 102.25 | 95.43
NJ002 | 100.02 | 93.33
NJ003 | 100.02 | 93.33
NJ004 | 85.36 | 79.67
NJ006 | 102.42 | 95.60
NJ007 | 100.27 | 93.58
NJ008 | 100.27 | 93.58
NJ009 | 85.36 | 79.67
NJ010 | 77.32 | 72.17
NJ011 | 102.42 | 95.60
NJ012 | 85.36 | 79.67
NJ013 | 102.42 | 95.60
NJ014 | 84.57 | 78.95
NJ015 | 85.36 | 79.67
NJ021 | 102.42 | 95.60
NJ022 | 102.42 | 95.60
NJ023 | 100.02 | 93.33
NJ025 | 100.02 | 93.33
NJ026 | 85.36 | 79.67
NJ030 | 85.36 | 79.67
NJ032 | 100.02 | 93.33
NJ033 | 102.42 | 95.60
NJ035 | 102.42 | 95.60
NJ036 | 85.36 | 79.67
NJ037 | 100.02 | 93.33
NJ039 | 100.02 | 93.33
NJ042 | 102.42 | 95.60
NJ043 | 102.42 | 95.60
NJ044 | 102.42 | 95.60
NJ046 | 100.27 | 93.58
NJ047 | 102.42 | 95.60
NJ048 | 100.27 | 93.58
NJ049 | 81.31 | 75.88
NJ050 | 100.02 | 93.33
NJ051 | 77.32 | 72.17
NJ052 | 100.02 | 93.33
NJ054 | 100.27 | 93.58
NJ055 | 102.42 | 95.60
NJ056 | 100.27 | 93.58
NJ058 | 77.32 | 72.17
NJ059 | 84.57 | 78.95
NJ060 | 100.27 | 93.58
NJ061 | 81.31 | 75.88
NJ063 | 81.31 | 75.88
NJ065 | 100.27 | 93.58
NJ066 | 100.02 | 93.33
NJ067 | 102.42 | 95.60
NJ068 | 100.02 | 93.33
NJ070 | 102.42 | 95.60
NJ071 | 102.42 | 95.60
NJ073 | 77.32 | 72.17
NJ074 | 77.32 | 72.17
NJ075 | 102.42 | 95.60
NJ077 | 85.36 | 79.67
NJ081 | 100.27 | 93.58
NJ083 | 85.36 | 79.67
NJ084 | 102.42 | 95.60
NJ086 | 100.02 | 93.33
NJ088 | 100.02 | 93.33
NJ089 | 102.42 | 95.60
NJ090 | 102.42 | 95.60
NJ091 | 102.42 | 95.60
NJ092 | 100.02 | 93.33
NJ095 | 100.27 | 93.58
NJ097 | 102.42 | 95.60
NJ099 | 100.02 | 93.33
NJ102 | 100.02 | 93.33
NJ105 | 100.02 | 93.33
NJ106 | 102.42 | 95.60
NJ108 | 100.02 | 93.33
NJ109 | 100.02 | 93.33
NJ110 | 102.42 | 95.60
NJ112 | 102.42 | 95.60
NJ113 | 100.02 | 93.33
NJ114 | 102.42 | 95.60
NJ115 | 77.32 | 72.17
NJ118 | 77.32 | 72.17
NJ204 | 77.32 | 72.17
NJ212 | 98.26 | 91.71
NJ214 | 100.27 | 93.58
NJ215 | 77.32 | 72.17
NJ880 | 100.27 | 93.58
NJ881 | 83.04 | 77.50
NJ882 | 97.29 | 90.79
NJ912 | 100.02 | 93.33
NM001 | 71.91 | 67.12
NM002 | 54.41 | 50.79
NM003 | 57.07 | 53.27
NM006 | 70.31 | 65.62
NM009 | 85.10 | 79.42
NM020 | 55.06 | 51.38
NM030 | 54.41 | 50.79
NM033 | 54.41 | 50.79
NM035 | 71.91 | 67.12
NM038 | 58.02 | 54.16
NM039 | 54.41 | 50.79
NM050 | 85.10 | 79.42
NM057 | 71.91 | 67.12
NM061 | 54.41 | 50.79
NM062 | 57.07 | 53.27
NM063 | 55.06 | 51.38
NM066 | 70.77 | 66.04
NM067 | 54.41 | 50.79
NM069 | 71.91 | 67.12
NM070 | 71.91 | 67.12
NM077 | 55.06 | 51.38
NV001 | 75.86 | 70.81
NV014 | 87.57 | 81.74
NV018 | 87.57 | 81.74
NV905 | 76.49 | 71.39
NY001 | 64.33 | 60.05
NY002 | 60.13 | 56.13
NY003 | 100.14 | 93.47
NY005 | 87.05 | 81.24
NY006 | 58.89 | 54.98
NY009 | 69.91 | 65.25
NY012 | 69.91 | 65.25
NY015 | 69.91 | 65.25
NY016 | 61.00 | 56.94
NY017 | 53.63 | 50.06
NY018 | 56.85 | 53.06
NY019 | 58.89 | 54.98
NY020 | 69.91 | 65.25
NY021 | 61.92 | 57.79
NY022 | 69.91 | 65.25
NY023 | 100.14 | 93.47
NY025 | 69.91 | 65.25
NY027 | 64.33 | 60.05
NY028 | 69.91 | 65.25
NY033 | 69.91 | 65.25
NY034 | 58.89 | 54.98
NY035 | 100.14 | 93.47
NY039 | 56.16 | 52.42
NY041 | 73.60 | 68.69
NY044 | 73.60 | 68.69
NY045 | 78.73 | 73.48
NY048 | 50.87 | 47.48
NY049 | 89.47 | 83.51
NY050 | 100.14 | 93.47
NY051 | 89.47 | 83.51
NY054 | 68.76 | 64.18
NY055 | 100.14 | 93.47
NY057 | 100.14 | 93.47
NY059 | 58.89 | 54.98
NY060 | 65.16 | 60.81
NY061 | 58.73 | 54.81
NY062 | 89.47 | 83.51
NY065 | 59.49 | 55.53
NY066 | 59.95 | 55.96
NY067 | 56.75 | 52.96
NY068 | 55.60 | 51.88
NY070 | 60.13 | 56.13
NY071 | 66.48 | 62.04
NY073 | 66.19 | 61.78
NY077 | 100.14 | 93.47
NY079 | 66.19 | 61.78
NY084 | 87.05 | 81.24
NY085 | 100.14 | 93.47
NY086 | 100.14 | 93.47
NY087 | 54.67 | 51.02
NY088 | 100.14 | 93.47
NY089 | 73.60 | 68.69
NY091 | 60.13 | 56.13
NY094 | 100.14 | 93.47
NY098 | 65.16 | 60.81
NY102 | 64.33 | 60.05
NY103 | 78.73 | 73.48
NY107 | 64.33 | 60.05
NY109 | 58.89 | 54.98
NY110 | 87.05 | 81.24
NY111 | 100.14 | 93.47
NY113 | 100.14 | 93.47
NY114 | 87.05 | 81.24
NY115 | 100.14 | 93.47
NY116 | 100.14 | 93.47
NY117 | 100.14 | 93.47
NY120 | 100.14 | 93.47
NY121 | 100.14 | 93.47
NY123 | 100.14 | 93.47
NY125 | 89.47 | 83.51
NY127 | 100.14 | 93.47
NY128 | 100.14 | 93.47
NY130 | 100.14 | 93.47
NY132 | 100.14 | 93.47
NY134 | 89.47 | 83.51
NY137 | 89.47 | 83.51
NY138 | 87.05 | 81.24
NY141 | 100.14 | 93.47
NY146 | 100.14 | 93.47
NY147 | 100.14 | 93.47
NY148 | 87.05 | 81.24
NY149 | 100.14 | 93.47
NY151 | 100.14 | 93.47
NY152 | 100.14 | 93.47
NY154 | 100.14 | 93.47
NY155 | 100.14 | 93.47
NY158 | 89.47 | 83.51
NY159 | 100.14 | 93.47
NY160 | 87.05 | 81.24
NY165 | 100.14 | 93.47
NY176 | 100.14 | 93.47
NY402 | 62.12 | 57.97
NY403 | 50.64 | 47.26
NY404 | 60.13 | 56.13
NY405 | 60.13 | 56.13
NY406 | 73.60 | 68.69
NY408 | 69.91 | 65.25
NY409 | 60.13 | 56.13
NY413 | 65.16 | 60.81
NY416 | 69.91 | 65.25
NY417 | 58.89 | 54.98
NY421 | 69.91 | 65.25
NY422 | 69.91 | 65.25
NY424 | 69.91 | 65.25
NY427 | 69.91 | 65.25
NY428 | 69.91 | 65.25
NY430 | 69.91 | 65.25
NY431 | 69.91 | 65.25
NY432 | 62.12 | 57.97
NY433 | 50.87 | 47.48
NY437 | 61.00 | 56.94
NY443 | 58.89 | 54.98
NY447 | 69.91 | 65.25
NY449 | 60.13 | 56.13
NY501 | 69.91 | 65.25
NY503 | 69.91 | 65.25
NY504 | 64.33 | 60.05
NY505 | 61.00 | 56.94
NY512 | 69.91 | 65.25
NY513 | 69.91 | 65.25
NY516 | 69.91 | 65.25
NY517 | 54.67 | 51.02
NY519 | 69.91 | 65.25
NY521 | 64.33 | 60.05
NY522 | 54.67 | 51.02
NY527 | 64.33 | 60.05
NY529 | 78.73 | 73.48
NY530 | 65.16 | 60.81
NY532 | 69.91 | 65.25
NY534 | 58.89 | 54.98
NY535 | 69.91 | 65.25
NY538 | 69.91 | 65.25
NY541 | 55.60 | 51.88
NY542 | 58.89 | 54.98
NY552 | 58.89 | 54.98
NY557 | 69.91 | 65.25
NY561 | 69.91 | 65.25
NY562 | 69.91 | 65.25
NY564 | 69.91 | 65.25
NY568 | 89.47 | 83.51
NY630 | 69.91 | 65.25
NY888 | 100.14 | 93.47
NY889 | 53.63 | 50.06
NY891 | 100.14 | 93.47
NY892 | 100.14 | 93.47
NY893 | 100.14 | 93.47
NY894 | 100.14 | 93.47
NY904 | 100.14 | 93.47
OH001 | 61.01 | 56.94
OH002 | 55.41 | 51.71
OH003 | 64.33 | 60.03
OH004 | 62.29 | 58.13
OH005 | 56.82 | 53.03
OH006 | 63.94 | 59.67
OH007 | 63.27 | 59.06
OH008 | 55.41 | 51.71
OH009 | 53.78 | 50.19
OH010 | 53.78 | 50.19
OH012 | 64.33 | 60.03
OH014 | 55.78 | 52.07
OH015 | 62.29 | 58.13
OH016 | 54.51 | 50.88
OH018 | 54.51 | 50.88
OH019 | 53.78 | 50.19
OH020 | 53.78 | 50.19
OH021 | 56.82 | 53.03
OH022 | 56.82 | 53.03
OH024 | 53.78 | 50.19
OH025 | 64.33 | 60.03
OH026 | 54.67 | 51.01
OH027 | 64.33 | 60.03
OH028 | 56.80 | 53.02
OH029 | 63.46 | 59.22
OH030 | 53.78 | 50.19
OH031 | 63.27 | 59.06
OH032 | 53.78 | 50.19
OH033 | 53.78 | 50.19
OH034 | 53.78 | 50.19
OH035 | 53.78 | 50.19
OH036 | 54.03 | 50.43
OH037 | 53.78 | 50.19
OH038 | 62.29 | 58.13
OH039 | 53.78 | 50.19
OH040 | 53.78 | 50.19
OH041 | 53.78 | 50.19
OH042 | 64.33 | 60.03
OH043 | 61.01 | 56.94
OH044 | 55.41 | 51.71
OH045 | 53.78 | 50.19
OH046 | 53.78 | 50.19
OH047 | 53.78 | 50.19
OH049 | 62.29 | 58.13
OH050 | 53.78 | 50.19
OH053 | 53.78 | 50.19
OH054 | 56.04 | 52.30
OH056 | 53.78 | 50.19
OH058 | 53.78 | 50.19
OH059 | 61.01 | 56.94
OH060 | 53.78 | 50.19
OH061 | 55.02 | 51.35
OH062 | 56.82 | 53.03
OH063 | 53.78 | 50.19
OH065 | 62.29 | 58.13
OH066 | 53.78 | 50.19
OH067 | 53.78 | 50.19
OH069 | 53.78 | 50.19
OH070 | 61.01 | 56.94
OH071 | 63.94 | 59.67
OH072 | 53.78 | 50.19
OH073 | 64.33 | 60.03
OH074 | 55.29 | 51.60
OH075 | 53.78 | 50.19
OH076 | 53.78 | 50.19
OH077 | 53.78 | 50.19
OH078 | 53.78 | 50.19
OH079 | 61.01 | 56.94
OH080 | 54.65 | 51.00
OH081 | 54.51 | 50.88
OH082 | 53.91 | 50.31
OH083 | 61.01 | 56.94
OH085 | 63.94 | 59.67
OH086 | 53.78 | 50.19
OH880 | 64.33 | 60.03
OH882 | 64.33 | 60.03
OK002 | 55.96 | 52.23
OK005 | 54.43 | 50.80
OK006 | 53.21 | 49.66
OK024 | 53.21 | 49.66
OK027 | 53.21 | 49.66
OK032 | 53.21 | 49.66
OK033 | 54.43 | 50.80
OK044 | 53.21 | 49.66
OK062 | 53.21 | 49.66
OK067 | 53.21 | 49.66
OK073 | 54.43 | 50.80
OK095 | 54.70 | 51.05
OK096 | 53.21 | 49.66
OK099 | 53.21 | 49.66
OK111 | 53.21 | 49.66
OK118 | 53.21 | 49.66
OK139 | 55.96 | 52.23
OK142 | 54.43 | 50.80
OK146 | 53.21 | 49.66
OK148 | 54.70 | 51.05
OK150 | 55.96 | 52.23
OK901 | 55.96 | 52.23
OR001 | 67.64 | 63.12
OR002 | 67.64 | 63.12
OR003 | 71.00 | 66.28
OR005 | 66.08 | 61.68
OR006 | 77.73 | 72.55
OR007 | 67.93 | 63.41
OR008 | 72.62 | 67.78
OR011 | 72.62 | 67.78
OR014 | 72.62 | 67.78
OR015 | 77.22 | 72.07
OR016 | 67.64 | 63.12
OR017 | 64.85 | 60.53
OR019 | 69.30 | 64.67
OR020 | 71.00 | 66.28
OR022 | 67.64 | 63.12
OR026 | 71.87 | 67.08
OR027 | 64.85 | 60.53
OR028 | 67.64 | 63.12
OR031 | 71.00 | 66.28
OR032 | 67.93 | 63.41
OR034 | 74.67 | 69.69
PA001 | 53.96 | 50.36
PA002 | 77.32 | 72.17
PA003 | 52.31 | 48.82
PA004 | 65.85 | 61.45
PA005 | 53.96 | 50.36
PA006 | 53.96 | 50.36
PA007 | 77.32 | 72.17
PA008 | 67.39 | 62.90
PA009 | 64.22 | 59.93
PA010 | 53.96 | 50.36
PA011 | 65.85 | 61.45
PA012 | 77.32 | 72.17
PA013 | 65.51 | 61.14
PA014 | 53.96 | 50.36
PA015 | 53.96 | 50.36
PA016 | 60.01 | 56.01
PA017 | 53.96 | 50.36
PA018 | 53.96 | 50.36
PA019 | 55.38 | 51.68
PA020 | 60.80 | 56.74
PA021 | 55.38 | 51.68
PA022 | 61.86 | 57.73
PA023 | 77.32 | 72.17
PA024 | 65.85 | 61.45
PA026 | 55.10 | 51.42
PA027 | 52.22 | 48.73
PA028 | 70.92 | 66.20
PA029 | 56.41 | 52.65
PA030 | 52.31 | 48.82
PA031 | 57.02 | 53.22
PA032 | 55.58 | 51.86
PA033 | 55.10 | 51.42
PA034 | 59.42 | 55.45
PA035 | 67.39 | 62.90
PA036 | 68.45 | 63.89
PA037 | 60.01 | 56.01
PA038 | 52.31 | 48.82
PA039 | 63.39 | 59.16
PA041 | 54.97 | 51.30
PA042 | 52.31 | 48.82
PA043 | 52.31 | 48.82
PA044 | 52.31 | 48.82
PA045 | 55.58 | 51.86
PA046 | 77.32 | 72.17
PA047 | 52.31 | 48.82
PA048 | 64.57 | 60.27
PA049 | 54.38 | 50.74
PA050 | 53.64 | 50.07
PA051 | 77.32 | 72.17
PA052 | 67.39 | 62.90
PA053 | 55.58 | 51.86
PA054 | 54.38 | 50.74
PA055 | 55.58 | 51.86
PA056 | 53.18 | 49.62
PA057 | 52.31 | 48.82
PA058 | 55.10 | 51.42
PA059 | 53.18 | 49.62
PA060 | 55.58 | 51.86
PA061 | 55.58 | 51.86
PA063 | 55.58 | 51.86
PA064 | 53.64 | 50.07
PA065 | 55.58 | 51.86
PA066 | 65.51 | 61.14
PA067 | 65.85 | 61.45
PA068 | 53.64 | 50.07
PA069 | 57.02 | 53.22
PA071 | 64.22 | 59.93
PA073 | 52.31 | 48.82
PA074 | 53.64 | 50.07
PA075 | 67.39 | 62.90
PA076 | 65.85 | 61.45
PA077 | 54.38 | 50.74
PA078 | 85.36 | 79.68
PA079 | 55.10 | 51.42
PA080 | 54.38 | 50.74
PA081 | 65.85 | 61.45
PA082 | 62.89 | 58.70
PA083 | 53.29 | 49.74
PA085 | 52.22 | 48.73
PA086 | 53.18 | 49.62
PA087 | 65.51 | 61.14
PA088 | 73.41 | 68.51
PA089 | 53.18 | 49.62
PA090 | 68.45 | 63.89
PA091 | 63.02 | 58.81
PA092 | 53.77 | 50.18
PA889 | 77.32 | 72.17
RI001 | 99.98 | 93.32
RI002 | 99.98 | 93.32
RI003 | 99.98 | 93.32
RI004 | 99.98 | 93.32
RI005 | 99.07 | 92.46
RI006 | 99.98 | 93.32
RI007 | 99.98 | 93.32
RI008 | 90.17 | 84.16
RI009 | 99.98 | 93.32
RI010 | 99.98 | 93.32
RI011 | 99.98 | 93.32
RI012 | 99.98 | 93.32
RI013 | 99.07 | 92.46
RI014 | 99.98 | 93.32
RI015 | 99.98 | 93.32
RI016 | 99.98 | 93.32
RI017 | 99.98 | 93.32
RI018 | 99.98 | 93.32
RI019 | 99.98 | 93.32
RI020 | 99.98 | 93.32
RI022 | 99.98 | 93.32
RI024 | 99.98 | 93.32
RI026 | 99.98 | 93.32
RI027 | 99.98 | 93.32
RI028 | 99.98 | 93.32
RI029 | 99.98 | 93.32
RI901 | 99.98 | 93.32
RQ006 | 76.17 | 71.09
RQ007 | 70.87 | 66.15
RQ008 | 76.17 | 71.09
RQ009 | 70.87 | 66.15
RQ010 | 70.87 | 66.15
RQ011 | 76.17 | 71.09
RQ012 | 70.87 | 66.15
RQ013 | 76.17 | 71.09
RQ014 | 76.17 | 71.09
RQ015 | 76.17 | 71.09
RQ016 | 76.17 | 71.09
RQ017 | 70.87 | 66.15
RQ018 | 70.87 | 66.15
RQ019 | 76.17 | 71.09
RQ020 | 77.83 | 72.64
RQ021 | 76.17 | 71.09
RQ022 | 76.17 | 71.09
RQ023 | 76.17 | 71.09
RQ024 | 76.17 | 71.09
RQ025 | 76.17 | 71.09
RQ026 | 70.87 | 66.15
RQ027 | 76.17 | 71.09
RQ028 | 76.17 | 71.09
RQ029 | 70.87 | 66.15
RQ030 | 70.87 | 66.15
RQ031 | 70.87 | 66.15
RQ032 | 76.17 | 71.09
RQ033 | 70.87 | 66.15
RQ034 | 76.17 | 71.09
RQ035 | 70.87 | 66.15
RQ036 | 76.17 | 71.09
RQ037 | 70.87 | 66.15
RQ038 | 76.17 | 71.09
RQ039 | 77.83 | 72.64
RQ040 | 77.83 | 72.64
RQ041 | 70.87 | 66.15
RQ042 | 70.87 | 66.15
RQ043 | 70.87 | 66.15
RQ044 | 76.17 | 71.09
RQ045 | 76.17 | 71.09
RQ046 | 70.87 | 66.15
RQ047 | 76.17 | 71.09
RQ048 | 70.87 | 66.15
RQ049 | 76.17 | 71.09
RQ050 | 76.17 | 71.09
RQ052 | 70.87 | 66.15
RQ053 | 76.17 | 71.09
RQ054 | 76.17 | 71.09
RQ055 | 70.87 | 66.15
RQ056 | 76.17 | 71.09
RQ057 | 70.87 | 66.15
RQ058 | 70.87 | 66.15
RQ059 | 70.87 | 66.15
RQ060 | 70.87 | 66.15
RQ061 | 70.87 | 66.15
RQ062 | 70.87 | 66.15
RQ063 | 76.17 | 71.09
RQ064 | 76.17 | 71.09
RQ065 | 70.87 | 66.15
RQ066 | 70.87 | 66.15
RQ067 | 70.87 | 66.15
RQ068 | 70.87 | 66.15
RQ069 | 70.87 | 66.15
RQ070 | 76.17 | 71.09
RQ071 | 70.87 | 66.15
RQ072 | 76.17 | 71.09
RQ073 | 70.87 | 66.15
RQ074 | 70.87 | 66.15
RQ075 | 76.17 | 71.09
RQ076 | 70.87 | 66.15
RQ077 | 76.17 | 71.09
RQ080 | 70.87 | 66.15
RQ081 | 76.17 | 71.09
RQ082 | 76.17 | 71.09
RQ083 | 76.17 | 71.09
RQ901 | 76.17 | 71.09
RQ911 | 76.17 | 71.09
SC001 | 62.10 | 57.97
SC002 | 62.78 | 58.59
SC003 | 58.70 | 54.79
SC004 | 58.70 | 54.79
SC005 | 58.70 | 54.79
SC007 | 58.70 | 54.79
SC008 | 62.78 | 58.59
SC015 | 58.70 | 54.79
SC016 | 58.70 | 54.79
SC018 | 58.70 | 54.79
SC019 | 58.70 | 54.79
SC020 | 58.70 | 54.79
SC021 | 58.70 | 54.79
SC022 | 61.71 | 57.59
SC023 | 58.70 | 54.79
SC024 | 62.10 | 57.97
SC025 | 58.70 | 54.79
SC026 | 59.91 | 55.90
SC027 | 58.70 | 54.79
SC028 | 58.70 | 54.79
SC029 | 58.70 | 54.79
SC030 | 58.70 | 54.79
SC031 | 58.70 | 54.79
SC032 | 58.70 | 54.79
SC033 | 58.70 | 54.79
SC034 | 58.70 | 54.79
SC035 | 58.70 | 54.79
SC036 | 61.71 | 57.59
SC037 | 58.70 | 54.79
SC046 | 61.71 | 57.59
SC056 | 62.10 | 57.97
SC057 | 62.10 | 57.97
SC059 | 58.70 | 54.79
SC911 | 62.78 | 58.59
SD010 | 59.04 | 55.10
SD011 | 55.19 | 51.51
SD014 | 55.19 | 51.51
SD016 | 59.04 | 55.10
SD021 | 55.19 | 51.51
SD026 | 55.19 | 51.51
SD034 | 55.19 | 51.51
SD035 | 59.97 | 55.97
SD036 | 55.19 | 51.51
SD037 | 55.19 | 51.51
SD038 | 55.19 | 51.51
SD039 | 59.04 | 55.10
SD043 | 55.19 | 51.51
SD045 | 55.28 | 51.60
SD047 | 55.19 | 51.51
SD048 | 55.19 | 51.51
SD055 | 55.19 | 51.51
SD056 | 55.19 | 51.51
SD057 | 55.19 | 51.51
SD058 | 55.19 | 51.51
SD059 | 55.19 | 51.51
TN001 | 58.99 | 55.06
TN002 | 54.65 | 51.01
TN003 | 55.03 | 51.37
TN004 | 58.74 | 54.82
TN005 | 65.38 | 61.02
TN006 | 54.65 | 51.01
TN007 | 54.65 | 51.01
TN011 | 52.97 | 49.44
TN012 | 54.50 | 50.88
TN013 | 52.97 | 49.44
TN015 | 52.97 | 49.44
TN016 | 52.97 | 49.44
TN020 | 65.38 | 61.02
TN024 | 52.97 | 49.44
TN026 | 52.97 | 49.44
TN038 | 54.65 | 51.01
TN042 | 52.97 | 49.44
TN054 | 54.65 | 51.01
TN062 | 52.97 | 49.44
TN065 | 55.03 | 51.37
TN066 | 54.65 | 51.01
TN076 | 54.65 | 51.01
TN079 | 65.38 | 61.02
TN088 | 55.03 | 51.37
TN095 | 58.99 | 55.06
TN113 | 55.03 | 51.37
TN117 | 58.74 | 54.82
TN903 | 64.76 | 60.44
TQ901 | 99.98 | 93.32
TX001 | 72.84 | 67.99
TX003 | 61.88 | 57.75
TX004 | 69.59 | 64.95
TX005 | 66.07 | 61.67
TX006 | 64.03 | 59.77
TX007 | 56.77 | 52.99
TX008 | 65.29 | 60.92
TX009 | 74.69 | 69.72
TX010 | 55.99 | 52.26
TX011 | 55.99 | 52.26
TX012 | 66.07 | 61.67
TX014 | 55.99 | 52.26
TX016 | 53.03 | 49.50
TX017 | 66.07 | 61.67
TX018 | 55.99 | 52.26
TX019 | 53.03 | 49.50
TX021 | 53.03 | 49.50
TX023 | 63.98 | 59.70
TX024 | 74.69 | 69.72
TX025 | 56.77 | 52.99
TX028 | 56.13 | 52.38
TX029 | 56.13 | 52.38
TX031 | 72.84 | 67.99
TX032 | 66.07 | 61.67
TX033 | 53.03 | 49.50
TX034 | 63.98 | 59.70
TX035 | 53.16 | 49.61
TX037 | 63.98 | 59.70
TX039 | 53.03 | 49.50
TX042 | 53.03 | 49.50
TX044 | 53.03 | 49.50
TX046 | 56.13 | 52.38
TX048 | 53.03 | 49.50
TX049 | 53.03 | 49.50
TX051 | 56.13 | 52.38
TX053 | 53.03 | 49.50
TX062 | 56.13 | 52.38
TX064 | 56.13 | 52.38
TX065 | 56.77 | 52.99
TX072 | 53.03 | 49.50
TX073 | 56.13 | 52.38
TX075 | 53.03 | 49.50
TX079 | 55.99 | 52.26
TX081 | 53.03 | 49.50
TX085 | 77.58 | 72.40
TX087 | 72.84 | 67.99
TX095 | 74.69 | 69.72
TX096 | 53.03 | 49.50
TX105 | 53.03 | 49.50
TX111 | 57.30 | 53.48
TX114 | 53.03 | 49.50
TX128 | 74.69 | 69.72
TX134 | 53.03 | 49.50
TX137 | 55.99 | 52.26
TX147 | 53.03 | 49.50
TX152 | 53.03 | 49.50
TX158 | 55.99 | 52.26
TX163 | 65.29 | 60.92
TX164 | 65.29 | 60.92
TX173 | 56.77 | 52.99
TX174 | 65.29 | 60.92
TX175 | 53.03 | 49.50
TX177 | 56.13 | 52.38
TX178 | 53.03 | 49.50
TX183 | 53.03 | 49.50
TX189 | 53.03 | 49.50
TX193 | 64.03 | 59.77
TX197 | 55.99 | 52.26
TX201 | 53.03 | 49.50
TX202 | 56.13 | 52.38
TX206 | 56.77 | 52.99
TX208 | 55.99 | 52.26
TX210 | 55.99 | 52.26
TX217 | 53.03 | 49.50
TX224 | 56.13 | 52.38
TX232 | 55.99 | 52.26
TX236 | 55.99 | 52.26
TX242 | 53.03 | 49.50
TX251 | 53.03 | 49.50
TX257 | 55.99 | 52.26
TX259 | 72.84 | 67.99
TX263 | 53.03 | 49.50
TX264 | 72.84 | 67.99
TX266 | 72.84 | 67.99
TX272 | 53.03 | 49.50
TX284 | 53.03 | 49.50
TX291 | 69.59 | 64.95
TX298 | 53.03 | 49.50
TX300 | 53.03 | 49.50
TX302 | 65.29 | 60.92
TX303 | 64.03 | 59.77
TX309 | 53.03 | 49.50
TX313 | 65.29 | 60.92
TX318 | 53.03 | 49.50
TX322 | 72.84 | 67.99
TX326 | 53.03 | 49.50
TX327 | 55.99 | 52.26
TX330 | 53.03 | 49.50
TX332 | 53.03 | 49.50
TX335 | 53.03 | 49.50
TX341 | 62.79 | 58.60
TX343 | 64.03 | 59.77
TX349 | 69.59 | 64.95
TX350 | 64.03 | 59.77
TX358 | 53.03 | 49.50
TX367 | 72.84 | 67.99
TX372 | 63.46 | 59.23
TX376 | 53.03 | 49.50
TX377 | 72.84 | 67.99
TX378 | 53.16 | 49.61
TX381 | 53.03 | 49.50
TX391 | 53.03 | 49.50
TX392 | 74.69 | 69.72
TX395 | 55.99 | 52.26
TX396 | 53.03 | 49.50
TX397 | 53.03 | 49.50
TX408 | 53.03 | 49.50
TX421 | 53.03 | 49.50
TX428 | 53.03 | 49.50
TX431 | 69.59 | 64.95
TX432 | 61.88 | 57.75
TX433 | 69.59 | 64.95
TX434 | 74.69 | 69.72
TX435 | 74.69 | 69.72
TX436 | 74.69 | 69.72
TX437 | 74.69 | 69.72
TX439 | 61.88 | 57.75
TX440 | 66.07 | 61.67
TX441 | 66.07 | 61.67
TX444 | 55.99 | 52.26
TX445 | 56.13 | 52.38
TX447 | 56.13 | 52.38
TX448 | 56.13 | 52.38
TX449 | 53.03 | 49.50
TX452 | 64.03 | 59.77
TX454 | 53.03 | 49.50
TX455 | 71.95 | 67.15
TX456 | 63.84 | 59.58
TX457 | 59.47 | 55.51
TX458 | 55.99 | 52.26
TX459 | 62.79 | 58.60
TX461 | 56.42 | 52.67
TX469 | 66.07 | 61.67
TX470 | 55.99 | 52.26
TX472 | 55.99 | 52.26
TX480 | 72.84 | 67.99
TX481 | 55.65 | 51.94
TX482 | 55.99 | 52.26
TX483 | 66.07 | 61.67
TX484 | 71.35 | 66.59
TX485 | 53.03 | 49.50
TX486 | 53.91 | 50.31
TX488 | 53.03 | 49.50
TX489 | 74.69 | 69.72
TX493 | 74.69 | 69.72
TX495 | 69.59 | 64.95
TX497 | 56.13 | 52.38
TX498 | 57.30 | 53.48
TX499 | 55.65 | 51.94
TX500 | 53.03 | 49.50
TX505 | 66.07 | 61.67
TX509 | 56.77 | 52.99
TX511 | 53.03 | 49.50
TX512 | 63.59 | 59.35
TX514 | 55.99 | 52.26
TX516 | 53.03 | 49.50
TX519 | 53.03 | 49.50
TX522 | 74.69 | 69.72
TX523 | 57.30 | 53.48
TX526 | 74.83 | 69.84
TX530 | 66.07 | 61.67
TX533 | 74.69 | 69.72
TX534 | 71.95 | 67.15
TX535 | 53.03 | 49.50
TX537 | 53.03 | 49.50
TX542 | 55.99 | 52.26
TX546 | 55.99 | 52.26
TX559 | 74.69 | 69.72
TX560 | 66.07 | 61.67
TX564 | 53.03 | 49.50
TX901 | 74.24 | 69.30
UT002 | 62.18 | 58.03
UT003 | 62.18 | 58.03
UT004 | 62.18 | 58.03
UT006 | 67.63 | 63.12
UT007 | 62.18 | 58.03
UT009 | 62.18 | 58.03
UT011 | 62.18 | 58.03
UT014 | 76.93 | 71.80
UT015 | 76.93 | 71.80
UT016 | 76.93 | 71.80
UT020 | 62.18 | 58.03
UT021 | 67.04 | 62.58
UT022 | 62.18 | 58.03
UT025 | 62.18 | 58.03
UT026 | 62.18 | 58.03
UT028 | 76.93 | 71.80
UT029 | 76.93 | 71.80
UT030 | 62.18 | 58.03
UT031 | 67.63 | 63.12
VA001 | 68.93 | 64.33
VA002 | 54.65 | 51.01
VA003 | 68.93 | 64.33
VA004 | 101.63 | 94.86
VA005 | 62.53 | 58.35
VA006 | 68.93 | 64.33
VA007 | 62.53 | 58.35
VA010 | 53.64 | 50.06
VA011 | 55.03 | 51.35
VA012 | 68.93 | 64.33
VA013 | 55.64 | 51.93
VA014 | 55.64 | 51.93
VA015 | 50.83 | 47.44
VA016 | 69.91 | 65.25
VA017 | 68.93 | 64.33
VA018 | 50.83 | 47.44
VA019 | 101.63 | 94.86
VA020 | 62.53 | 58.35
VA021 | 50.83 | 47.44
VA022 | 50.96 | 47.55
VA023 | 50.96 | 47.55
VA024 | 50.83 | 47.44
VA025 | 68.93 | 64.33
VA028 | 101.63 | 94.86
VA030 | 50.83 | 47.44
VA031 | 54.65 | 51.01
VA032 | 54.65 | 51.01
VA034 | 50.83 | 47.44
VA035 | 101.63 | 94.86
VA036 | 69.91 | 65.25
VA037 | 50.96 | 47.55
VA038 | 50.83 | 47.44
VA039 | 68.93 | 64.33
VA040 | 50.83 | 47.44
VA041 | 68.93 | 64.33
VA042 | 54.65 | 51.01
VA043 | 55.03 | 51.35
VA044 | 62.53 | 58.35
VA045 | 51.07 | 47.66
VA046 | 101.63 | 94.86
VA880 | 69.91 | 65.25
VA901 | 65.01 | 60.67
VQ901 | 84.56 | 78.93
VT001 | 82.66 | 77.15
VT002 | 71.69 | 66.91
VT003 | 74.15 | 69.21
VT004 | 73.42 | 68.52
VT005 | 68.73 | 64.15
VT006 | 82.66 | 77.15
VT008 | 68.73 | 64.15
VT009 | 69.47 | 64.84
VT011 | 82.66 | 77.15
VT901 | 82.66 | 77.15
WA001 | 84.94 | 79.26
WA002 | 84.94 | 79.26
WA003 | 75.03 | 70.02
WA004 | 71.56 | 66.78
WA005 | 72.13 | 67.33
WA006 | 84.94 | 79.26
WA007 | 59.58 | 55.60
WA008 | 67.64 | 63.12
WA011 | 84.94 | 79.26
WA012 | 65.53 | 61.15
WA013 | 66.40 | 61.97
WA014 | 55.18 | 51.50
WA017 | 58.95 | 55.02
WA018 | 71.56 | 66.78
WA019 | 57.83 | 53.98
WA020 | 57.83 | 53.98
WA021 | 65.53 | 61.15
WA024 | 84.08 | 78.45
WA025 | 80.64 | 75.25
WA036 | 75.03 | 70.02
WA039 | 84.94 | 79.26
WA042 | 68.13 | 63.58
WA049 | 77.51 | 72.33
WA054 | 72.13 | 67.33
WA055 | 65.25 | 60.91
WA057 | 71.17 | 66.42
WA061 | 73.72 | 68.81
WA064 | 67.09 | 62.61
WA069 | 55.18 | 51.50
WA071 | 60.47 | 56.43
WI001 | 56.67 | 52.90
WI002 | 60.23 | 56.22
WI003 | 67.04 | 62.57
WI006 | 57.63 | 53.79
WI011 | 49.52 | 46.22
WI019 | 48.72 | 45.47
WI020 | 76.62 | 71.51
WI031 | 49.57 | 46.27
WI039 | 48.72 | 45.47
WI043 | 50.72 | 47.34
WI045 | 48.72 | 45.47
WI047 | 49.91 | 46.59
WI048 | 48.72 | 45.47
WI050 | 48.72 | 45.47
WI060 | 76.62 | 71.51
WI064 | 55.89 | 52.17
WI065 | 50.72 | 47.34
WI068 | 49.52 | 46.22
WI069 | 49.52 | 46.22
WI070 | 48.72 | 45.47
WI083 | 60.23 | 56.22
WI085 | 48.72 | 45.47
WI091 | 48.72 | 45.47
WI096 | 48.72 | 45.47
WI127 | 48.72 | 45.47
WI131 | 48.72 | 45.47
WI142 | 60.23 | 56.22
WI160 | 48.72 | 45.47
WI166 | 48.72 | 45.47
WI183 | 55.03 | 51.35
WI186 | 50.49 | 47.12
WI193 | 48.72 | 45.47
WI195 | 62.29 | 58.13
WI201 | 60.23 | 56.22
WI203 | 55.89 | 52.17
WI204 | 49.52 | 46.22
WI205 | 48.72 | 45.47
WI206 | 48.72 | 45.47
WI207 | 48.72 | 45.47
WI208 | 48.72 | 45.47
WI213 | 50.72 | 47.34
WI214 | 67.04 | 62.57
WI218 | 60.23 | 56.22
WI219 | 55.89 | 52.17
WI221 | 48.72 | 45.47
WI222 | 48.72 | 45.47
WI230 | 48.72 | 45.47
WI231 | 48.72 | 45.47
WI233 | 48.72 | 45.47
WI237 | 49.63 | 46.32
WI241 | 48.72 | 45.47
WI242 | 48.72 | 45.47
WI244 | 53.49 | 49.92
WI245 | 48.72 | 45.47
WI246 | 50.94 | 47.54
WI248 | 48.72 | 45.47
WI256 | 48.72 | 45.47
WI259 | 60.23 | 56.22
WI261 | 60.23 | 56.22
WI262 | 48.72 | 45.47
WI263 | 48.72 | 45.47
WI901 | 59.67 | 55.70
WV001 | 64.06 | 59.78
WV002 | 53.95 | 50.36
WV003 | 53.78 | 50.19
WV004 | 53.78 | 50.19
WV005 | 53.78 | 50.19
WV006 | 53.39 | 49.82
WV009 | 53.95 | 50.36
WV010 | 57.55 | 53.71
WV013 | 49.82 | 46.50
WV014 | 53.78 | 50.19
WV015 | 49.82 | 46.50
WV016 | 55.78 | 52.07
WV017 | 49.82 | 46.50
WV018 | 49.82 | 46.50
WV027 | 50.86 | 47.47
WV034 | 49.82 | 46.50
WV035 | 50.86 | 47.47
WV037 | 53.15 | 49.61
WV039 | 49.82 | 46.50
WV042 | 64.06 | 59.78
WV045 | 49.82 | 46.50
WV046 | 49.82 | 46.50
WY002 | 75.92 | 70.86
WY003 | 61.83 | 57.71
WY004 | 91.47 | 85.38
WY013 | 61.83 | 57.71

[FR Doc. 2012-18581 Filed 7-27-12; 8:45 am]

BILLING CODE 4210-67-P